DEPARTMENT OF DEFENSE

Department of the Army

[Docket ID: USA-2021-HQ-0011]

Proposed Collection; Comment Request

AGENCY: Department of the Army, Department of Defense (DoD).

ACTION: Information collection notice.

SUMMARY: In compliance with the Paperwork Reduction Act of 1995, the U.S. Army Claims Service, Center for Personnel Claims Support (AMIM-KNG-CP) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 24, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Claims Service, Center for Personnel Claims Support (AMIM-KNG-CP), 50 Third Avenue, Suite 307, FT. Knox, KY 40121, ATTN: Mark Edick, Deputy Director/Operations Officer, or call 502-626-3000.

SUPPLEMENTARY INFORMATION: Title; Associated Form; and OMB Number: Administrative Claims for Loss and Damage to Personal Property; DD Form 1842 (Claims for Loss or Damage to Personal Property Incident to Service) and DD Form 1844 (List of Property and Claims Analysis Chart), OMB Control Number 0702-PROP.

Needs and Uses: The collection of information is required to process and settle claims for the loss, damage or destruction of personal property, household goods (HHGs), unaccompanied baggage (UBH), non-temporary storage (NTS), Privately Owned Vehicles (POV's) related to and in conjunction with U.S. Government-sponsored official travel. This also includes loss, damage or destruction caused by fire, flood, theft vandalism and/or unusual occurrence that occurred incident to service. Respondents are retired/former military, retired/former Federal (GS/NAF) employees, US military Academy students, ROTC Cadets, family members with Power of Attorney, and Next of Kin.

Affected Public: Individuals and households.

Annual Burden Hours: 336.

Number of Respondents: 224.

Responses per Respondent: 2.

Annual Responses: 448.

Average Burden per Response: 45 minutes.

Frequency: On occasion.

Dated: June 16, 2021.
Aaron T. Siegel,
Alternate OSD Federal Register, Liaison Officer, Department of Defense.

[FR Doc. 2021-13595 Filed 6-24-21; 8:45 am]

BILLING CODE 5001-06-P